ENVIRONMENTAL PROTECTION AGENCY

[Region II Docket No. NJ45-222, FRL-6990-3]

Adequacy Status of the Submitted 2002, 2005 and 2007 Rate of Progress and Updated Attainment Demonstration Budgets for the Ozone National Ambient Air Quality Standards for Transportation Conformity Purposes for the New Jersey Severe Ozone Nonattainment Areas

AGENCY: Environmental Protection Agency (EPA).

ACTION: Notice of adequacy.

SUMMARY: In this notice, EPA is notifying the public that we have found that the motor vehicle emissions budgets for volatile organic compounds and nitrogen oxides in the submitted rate of progress state implementation plan (SIP) for the New Jersey severe nonattainment areas to be adequate for conformity purposes. On March 2, 1999, the D.C. Circuit Court ruled that submitted state implementation plan budgets cannot be used for conformity determinations until EPA has affirmatively found them adequate. As a result of our finding, the New Jersey portions of the New York-New Jersey-Connecticut severe ozone nonattainment area can use the motor vehicle emissions budgets of volatile organic compounds and nitrogen oxides for 2002, 2005 and 2007 from the submitted rate of progress SIP for future conformity determinations. These budgets also apply to the Warren County marginal nonattainment area. The New Jersey portions of the Philadelphia-Wilmington-Trenton severe ozone nonattainment areas can use the motor vehicle emissions budgets of volatile organic compounds and nitrogen oxides for 2002 and 2005 from the submitted Rate of Progress SIP for future conformity determinations. These budgets also apply to the Atlantic City moderate ozone nonattainment area.

DATES: This finding is effective June 18, 2001.

FOR FURTHER INFORMATION CONTACT: Melanie A. Zeman, Mobile Source Team, Air Programs Branch, Environmental Protection Agency, 290 Broadway, 25th Floor, New York, New York 10007-1866, (212) 637-4022, e-mail address: zeman.melanie@epa.gov.

The finding and the response to comments will be available at EPA's conformity website: http://www.epa.gov/oms/traq, (once there, click on the “Conformity” button, then look for “Adequacy Review of SIP Submissions for Conformity”).

SUPPLEMENTARY INFORMATION:

Background

Today's notice is simply an announcement of a finding that we have already made. EPA Region 2 sent a letter to the New Jersey Department of Environmental Protection on May 23, 2001 stating that the motor vehicle emissions budgets in the submitted rate of progress plan (dated April 11, 2001) for the New Jersey portions of the New York-New Jersey-Connecticut and Philadelphia-Wilmington-Trenton severe nonattainment areas are adequate for conformity purposes. This finding will also be announced on EPA's conformity website: http://www.epa.gov/oms/traq, (once there, click on the “Conformity” button, then look for “Adequacy Review of SIP Submissions for Conformity”).

Transportation conformity is required by section 176(c) of the Clean Air Act. EPA's conformity rule requires that transportation plans, programs, and projects conform to state air quality implementation plans (SIPs) and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the SIP could later be disapproved.

We've described our process for determining the adequacy of submitted SIP budgets in guidance (May 14, 1999 memo titled “Conformity Guidance on Implementation of March 2, 1999 Conformity Court Decision”). We followed this guidance in making our adequacy determination.

Authority: 42 U.S.C. 7401 et seq.

Dated: May 23, 2001.
Kathleen C. Callahan,
Acting Regional Administrator Region 2.

[FR Doc. 01-13780 Filed 5-31-01; 8:45 am]

BILLING CODE 6560-50-U